DEPARTMENT OF THE INTERIOR

Bureau of Land Management

[LLCAC09000 L16100000.DP0000]

Notice of Availability of Draft Resource Management Plan and Draft Environmental Impact Statement for the Clear Creek Management Area, CA

AGENCY: Bureau of Land Management, Interior.

ACTION: Notice of availability.

SUMMARY: In accordance with the National Environmental Policy Act of 1969 and the Federal Land Policy and Management Act of 1976, the Bureau of Land Management (BLM) has prepared a Draft Resource Management Plan and Draft Environmental Impact Statement (RMP/EIS) for the Clear Creek Management Area (CCMA), and by this notice, announces the opening of the public comment period.

DATES: To ensure that comments will be considered, the BLM must receive written comments on the Draft RMP/EIS within 90 days following the date the Environmental Protection Agency publishes its Notice of Availability in the Federal Register. The BLM will announce future meetings or hearings and any other public involvement activities at least 15 days in advance through public notices, media news releases, and/or mailings.

ADDRESSES: You may submit comments at the public meetings or by any of the following methods:

• Mail Address: BLM Hollister Field Office, 20 Hamilton Court, Hollister, California 95023.

• E-mail: cahormp@ca.blm.gov.

• Fax: (831) 630-5055.

The CCMA Draft RMP/EIS is available on-line at: http://www.ca.blm.gov/hollister. Compact discs (CDs) of the CCMA Draft RMP/EIS are available at the Hollister Field Office at the above address; CD copies are also available at the BLM California State Office, 2800 Cottage Way, Sacramento, California 95825.

FOR FURTHER INFORMATION CONTACT: Sky Murphy, BLM Hollister Field Office, 20 Hamilton Court, Hollister, California 95023, (831) 630-5039.

SUPPLEMENTARY INFORMATION: The planning area covers approximately 75,000 surface acres and approximately 3,500 acres of subsurface mineral estate in San Benito and Fresno counties, California. The CCMA RMP, when completed, will provide management guidance for use and protection of the resources managed by the Hollister Field Office. The CCMA Draft RMP/EIS has been developed through a collaborative planning process among local, State, and Federal agencies and considers seven alternatives. The primary issues addressed include public health and safety, recreation, protection of sensitive natural and cultural resources, livestock grazing, guidance for energy and mineral development, land tenure adjustments, and other planning issues raised during the scoping process.

The Draft RMP/EIS also designates an Area of Critical Environmental Concern (ACEC). The preferred alternative would carry forward the designation of the existing 30,200-acre Clear Creek Serpentine ACEC to protect public health and safety and other resource values identified in the Draft RMP/EIS. Restrictions on the use of public lands within the Serpentine ACEC to minimize human health risks from exposure to asbestos and reduce airborne emissions of asbestos from BLM management activities vary among the range of alternatives, but are likely to include limitations on motorized vehicle use and many other surface disturbing activities.

Please note that public comments and information submitted including names, street addresses, and e-mail addresses of respondents will be available for public review and disclosure at the above address during regular business hours (8 a.m. to 4 p.m.), Monday through Friday, except holidays. Before including your address, phone number, e-mail address, or other personal identifying information in your comment, you should be aware that your entire comment—including your personal identifying information—may be made publicly available at any time. While you can ask us in your comment to withhold your personal identifying information from public review, we cannot guarantee that we will be able to do so.

Dianna Brink,
Acting Deputy State Director for Natural Resources.

[FR Doc. E9-28867 Filed 12-3-09; 8:45 am]

BILLING CODE 4310-40-P